DEPARTMENT OF LABOR

Employment and Training Administration

[TA-W-61,632]

Lear Idea Center, Seating Systems Division, Madison Heights, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 5, 2007, applicable to workers of Lear Idea Center, Seating Systems Division, Madison, Michigan. The notice was published in the Federal Register on July 19, 2007 (72 FR 39643).

At the request of the State agency, the Department reviewed the certification for workers of the subject firm. The workers produced auto seating trim.

The certification incorrectly stated that the certification was for workers of Lear Idea Center, Seating Systems Division in Madison, Michigan. The city named in the certification document should have been Madison Heights, not Madison. Therefore, the Department is amending this certification to correctly identify the city in which the worker group is located.

The amended notice applicable to TA-W-61,632 is hereby issued as follows:

All workers of Lear Idea Center, Seating Systems Division, Madison Heights, Michigan, who became totally separated from employment on May 29, 2006 through July 5, 2009, are eligible to apply for adjustment assistance under Section 223 of the Trade Act of 1974, and are also eligible to apply for alternative trade adjustment assistance under Section 246 of the Trade Act of 1974.

Signed at Washington, DC, this 19th day of June 2008.
Linda G. Poole,
Certifying Officer, Division of Trade Adjustment Assistance.

[FR Doc. E8-14604 Filed 6-26-08; 8:45 am]

BILLING CODE 4510-FN-P